DEPARTMENT OF HEALTH AND HUMAN SERVICES

National Institutes of Health

Center for Scientific Review; Amended Notice of Meeting

Notice is hereby given of a change in the meeting of the Center for Scientific Review Special Emphasis Panel, PAR Panel: Fogarty Global Brain Disorders, March 19, 2020, 8:00 a.m. to March 20, 2020, 5:00 p.m. at the Embassy Suites, Chevy Chase Pavillion, 4300 Military Road NW, Washington, DC 20015, which was published in the Federal Register on February 20, 2020, 85 FR 9791.

The meeting will be held at the National Institutes of Health, 6701 Rockledge Drive, Bethesda, MD 20892. The format of the meeting has been changed to a Video Assisted Meeting. The meeting date and time remain the same. The meeting is closed to the public.

Dated: March 11, 2020.
Ronald J. Livingston, Jr.,
Program Analyst, Office of Federal Advisory Committee Policy.

[FR Doc. 2020-05416 Filed 3-16-20; 8:45 am]

BILLING CODE 4140-01-P